DEPARTMENT OF COMMERCE

National Oceanic and Atmospheric Administration

[I.D. 092705C]

Fisheries of the Caribbean, Gulf of Mexico, and South Atlantic; Amendment 14 to the Fishery Management Plan for the Shrimp Fishery of the Gulf of Mexico and Amendment 27 to the Fishery Management Plan for the Reef Fish Resources of the Gulf of Mexico; Scoping Meetings

AGENCY: National Marine Fisheries Service (NMFS), National Oceanic and Atmospheric Administration (NOAA), Commerce.

ACTION: Notice of intent to prepare a draft supplemental environmental impact statement; notice of scoping meetings; request for comments.

SUMMARY: The Gulf of Mexico Fishery Management Council (Council) intends to prepare a draft supplemental environmental impact statement (DSEIS) to describe and analyze management alternatives to be included in a joint amendment to the Fishery Management Plan (FMP) for the Shrimp Fishery of the Gulf of Mexico (Shrimp FMP) and the FMP for the Reef Fish Resources of the Gulf of Mexico (Reef Fish FMP). These alternatives will consider measures to reduce red snapper fishing mortality and bycatch in the shrimp and reef fish fisheries. The purpose of this notice of intent is to solicit public comments on the scope of issues to be addressed in the DSEIS.

DATES: Written comments on the scope of issues to be addressed in the DSEIS must be received by the Council by November 3, 2005. A series of scoping meetings will be held in October 2005. See SUPPLEMENTARY INFORMATION for specific dates and times.

ADDRESSES: Written comments on the scope of the DSEIS, and requests for additional information on the joint amendment, should be sent to the Gulf of Mexico Fishery Management Council, 2203 North Lois Avenue, Suite 1100, Tampa, FL 33607; phone: 813-348-1630; fax: 813-348-1711. Comments may also be sent by e-mail to: rick.leard@gulfcouncil.org.

The locations of all scoping meetings are provided under the SUPPLEMENTARY INFORMATION section of this notice.

FOR FURTHER INFORMATION CONTACT: Rick Leard by phone: 813-348-1630, by fax: 813-348-1711, or by e-mail: rick.leard@gulfcouncil.org.

SUPPLEMENTARY INFORMATION: Shrimp and reef fish in the Gulf of Mexico are managed under their respective FMPs. Both fisheries contribute to fishing mortality of red snapper.

Age 0 and Age 1 red snapper are taken by shrimp trawls, and Age 2 and older red snapper are caught in the directed commercial and recreational red snapper fishery. Because red snapper are overfished and are undergoing overfishing, reducing fishing mortality on these younger age classes is needed to help rebuild the stock. Actions to reduce bycatch of red snapper are anticipated to reduce bycatch fishing mortality for other reef fish species as well.

The Council will develop a DSEIS to describe and analyze management alternatives to reduce bycatch fishing mortality in the shrimp and reef fish fisheries. Those alternatives include, but are not limited to: (1) a “no action” alternative regarding each fishery; (2) alternatives to reduce bycatch in the directed reef fish fishery, such as changes to the size limits or bag limits, the use of circle hooks, or closed seasons; (3) alternatives to reduce reef fish bycatch in the shrimp fishery, such as season or area closures; and (4) alternatives to reduce and monitor effort in the shrimp fishery.

In accordance with NOAA Administrative Order (NAO) 216-6, Section 5.02(c), the Council has identified this preliminary range of alternatives as a means to initiate discussion for scoping purposes only. This may not represent the full range of alternatives that eventually will be evaluated by the Council.

The Council has scheduled the following eight scoping meetings to provide the opportunity for additional public input:

1. Thursday, October 13, 2005, DoubleTree Grand Key Resort, 3990 South Roosevelt Boulevard, Key West, FL 33040, phone: 888-310-1540;

2. Monday, October 17, 2005, National Marine Fisheries Service Laboratory, 3500 Delwood Beach Road, Panama City, FL 32408, phone: 850-234-6541;

3. Tuesday, October 18, 2005, Hilton Garden Inn Orange Beach, 23092 Perdido Beach Boulevard, Orange Beach, AL 36561, phone: 251-974-1600;

4. Wednesday, October 19, 2005, Tampa Marriott Westshore, 1001 North Westshore Boulevard, Tampa, FL 33607, phone: 813-287-2555;

5. Monday, October 24, 2005, Four Points by Sheraton, 3777 North Expressway, Brownsville, TX 78520, phone: 956-547-1500;

6. Tuesday, October 25, 2005, University of Texas Marine Science Institute Auditorium, 750 Channel View Drive, Port Aransas, TX 78373, phone: 361-749-6711;

7. Wednesday, October 26, 2005, Holiday Inn Galveston, 5002 Seawall Boulevard, Galveston, TX 77550, phone: 409-740-3581; and

8. Thursday, October 27, 2005, Louisiana State University Agricultural Center Office, 7101 Gulf Highway, Lake Charles, LA 70607, phone: 337-475-8812.

Copies of the scoping document will be available at the meetings and are available prior to the meetings from the Council office (see ADDRESSES).

All scoping meetings will begin at 6 p.m. The meetings will be physically accessible to people with disabilities. Requests for sign language interpretation or other auxiliary aids should be directed to Rick Leard at the Council (see ADDRESSES) by October 6, 2005.

Once the Council completes the DSEIS associated with the joint amendment to the Shrimp and Reef Fish FMPs, it will submit the document to NMFS for filing with the Environmental Protection Agency (EPA). The EPA will publish a notice of availability of the DSEIS for public comment in the Federal Register. The DSEIS will have a 45-day comment period. This procedure is pursuant to regulations issued by the Council on Environmental Quality (CEQ) for implementing the procedural provisions of the National Environmental Policy Act (NEPA; 40 CFR parts 1500-1508) and to NAO 216-6 regarding NOAA's compliance with NEPA and the CEQ regulations.

The Council will consider public comments received on the DSEIS in developing the final supplemental environmental impact statement (FSEIS) and before adopting final management measures for the joint amendment. The Council will submit both the final amendment and the supporting FSEIS to NMFS for review by the Secretary of Commerce (Secretary) under the Magnuson-Stevens Fishery Conservation and Management Act.

NMFS will announce, through a document published in the Federal Register, the availability of the final joint amendment for public review during the Secretarial review period. During Secretarial review, NMFS will also file the FSEIS with the EPA for a final 30-day public comment period. This comment period will be concurrent with the Secretarial review period and will end prior to final agency action to approve, disapprove, or partially approve the final joint amendment.

NMFS will announce, through a document published in the Federal Register, all public comment periods on the final joint amendment, its proposed implementing regulations, and its associated FSEIS. NMFS will consider all public comments received during the Secretarial review period, whether they are on the final amendment, the proposed regulations, or the FSEIS, prior to final agency action.

Dated: September 28, 2005.
Alan D. Risenhoover,
Acting Director, Office of Sustainable Fisheries, National Marine Fisheries Service.

[FR Doc. 05-19868 Filed 10-3-05; 8:45 am]

BILLING CODE 3510-22-S